DEPARTMENT OF TRANSPORTATION

Federal Aviation Administration

14 CFR Parts 1, 60, 61, 63, 141, and 142

[Docket No. FAA-2002-12461; Notice No. 02-11]

RIN 2120-AH07

Flight Simulation Device Initial and Continuing Qualification and Use

AGENCY: Federal Aviation Administration (FAA), DOT.

ACTION: Notice of on-line public forum.

SUMMARY: On September 25, 2002, the FAA published a notice of proposed rulemaking (NPRM), which proposes requirements to establish flight simulation device qualification requirements in a new part. (67 FR 60284; Notice No. 02-11). The comment period closes on February 24, 2003. To supplement the traditional comment period, we are announcing an on-line public forum, allowing you to answer specific questions we will ask on the Internet. We are offering the forum to assist us in providing a clear and comprehensive final rule. You can continue to submit comments to the docket during the public forum, as outlined below and in the NPRM.

DATES: You may access the on-line public forum beginning December 2, 2002, at 9 a.m. e.s.t. until December 13, 2002, at 4:30 p.m. e.s.t.

ADDRESSES: You may access the on-line public forum at http://www2.faa.gov/avr/arm/rulemakingforum.cfm?nav=part. Under the “View Docket/Comments” column, click once on “Enter Public Forum.” Follow the instructions to access the questions.

If you are unable to participate in the on-line public forum and wish to submit written comments, address your comments to the Docket Management System, U.S. Department of Transportation, Room Plaza 401, 400 Seventh St., SW., Washington, DC 20590-0001. You must identify the docket number FAA-2002-12461 at the beginning of your comments, and you should submit two copies of your comments.

You may also submit comments through the Internet to http://dms/dot.gov. You may review the public docket containing comments to these proposed regulations in person in the Dockets Office between 9 a.m. and 5 p.m., Monday through Friday, except Federal holidays. The Dockets Office is on the plaza level at the Department of Transportation building at the address above. Also, you may review public dockets on the Internet at http://dms.dot.gov.

FOR FURTHER INFORMATION CONTACT: Edward Cook, National Simulator Program Staff (AFS-205), Flight Standards Service, Federal Aviation Administration, 1701 Columbia Avenue, College Park, GA 30337; telephone (404) 305-6100.

SUPPLEMENTARY INFORMATION

On-Line Public Forum

We are soliciting on-line discussion and written comments on the questions below. You will be able to read the questions on-line and submit your answers and comments electronically. We will monitor your responses throughout the 2-week forum and may ask you clarifying questions. While we have selected topics that we are particularly interested in, we still welcome all of your comments and suggestions. We will not make any commitments or draw any conclusions while the docket is open for public comment.

On-Line Questions

The questions that will appear on the Internet for the on-line public forum are as follows:

1. The FAA would like to assist any reader who may have had difficulty understanding the proposed rule. If you need clarification on the proposed rule (in general or in a specific section), please describe what you would like clarified here.

Note: We will exert every effort to post our reply below your description in as short a time as possible.

2. The FAA seeks the public's opinion on the format of the part 60 appendices “A” through “D.” Specifically, does this format aid the reader in determining the context of the material being read (i.e., awareness that the text is rule language, additional requirements, or information)? If not, what are your recommendations for modifying the format?

3. The FAA seeks the public's recommendations for additions, modifications, and/or deletions to the definitions of terms used in the proposed rule (as found in the dedicated section of the rule and the dedicated attachment in each appendix to the rule). The recommendations we are seeking are strictly to make the proposed rule clearer.

4. The FAA seeks the public's opinion on where the National Simulator Program (NSP) should publish the Statement of Qualification?* The options are as follows:

(a) Shared with the public on the NSP's Internet website;

(b) Shared only among NSP staff, FAA personnel (for example, Principal Operations Inspector (POI) or Training Center Program Manager (TCPM)) and the sponsor; or

(c) Shared only between NSP staff and the sponsor.

* Note: The Statement of Qualification consists of the following three parts:

(a) A Certificate—names the sponsor; the aircraft being simulated; the category of Flight Simulation Device (FSD); the FAA identification number; and the qualification level for the device.

(b) A Configuration List—outlines the aircraft configuration; types of visual, motion, or other simulator systems installed; the aircraft equipment being simulated; alternative configurations available for engines, instrumentation, and other equipment; and includes the date each above item was qualified.

(c) Qualifications/Restrictions to Qualifications List—lists the flight tasks flown by the sponsor (or the sponsor's representative) in preparation for the sponsor's request for initial evaluation (see § 60.15). It also lists and describes the flight tasks and the Flight Simulation Device (FSD) systems for which qualification is or is not originally sought and is or is not granted.

5. The FAA seeks the public's opinion on whether to continue the practice of “grandfathering.” Please include whether this practice should have an end point either in general or for some specific aspects of the practice. If you believe “grandfathering” should be discontinued, include suggestions on the conditions for instituting an end point.

Note: The term “grandfathering” is used to allow standards, in effect at the time of original qualification of a specific Flight Simulation Device (FSD), to continue to apply to that specific FSD regardless of subsequent modification to those standards. This provision addresses areas such as visual systems, motion systems, aerodynamic data, required tests, and individual test tolerances.

6. The FAA seeks the public's opinion on whether the current list of objective tests is practicable and viable and on whether this list may be modified by either reducing or expanding the number of objective tests. The resulting list of tests must not compromise the overall objective review of the performance and handling of the simulator in comparison to the simulated airplane.

7. The FAA seeks the public's opinion on the effectiveness of using an Internet website (to discuss aspects of flight simulation device evaluation and qualification and explain National Simulator Program (NSP) policy and/or the proposals and suggestions for alteration of those policies). Do you have additional suggestions on how FAA's communication with the aviation industry and the public in general may be promoted through this or similar media?

8. Please identify which affiliation you are associated with.

Note: Select one of the following categories:

(a) Airlines or Training Centers.

(b) Pilots or Pilot Organizations.

(c) Simulator or FTD Manufacturers.

(d) Airplane Manufacturers.

(e) Academic Institutions.

(f) U.S. Agencies (such as NASA, NTSB, Customs, etc.).

(g) U.S. or Foreign Military.

(h) Foreign Regulatory Authorities.

(i) Other.

Issued in Washington, DC, on November 15, 2002.
Anthony F. Fazio,
Director, Office of Rulemaking.

[FR Doc. 02-29646 Filed 11-18-02; 3:50 pm]

BILLING CODE 4910-13-P